DEPARTMENT OF THE INTERIOR

National Park Service

[NPS-WASO-NAGPRA-NPS0030254; PPWOCRADN0-PCU00RP14.R50000]

Notice of Intent To Repatriate Cultural Items: Minnesota Museum of American Art, St. Paul, MN

AGENCY: National Park Service, Interior.

ACTION: Notice.

SUMMARY: The Minnesota Museum of American Art, in consultation with the appropriate Indian Tribes or Native Hawaiian organizations, has determined that the one cultural item listed in this notice meets the definition of a sacred object and an object of cultural patrimony. Lineal descendants or representatives of any Indian Tribe or Native Hawaiian organization not identified in this notice that wish to claim this cultural item should submit a written request to the Minnesota Museum of American Art. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Minnesota Museum of American Art at the address in this notice by July 10, 2020.

ADDRESSES: Kristin Makholm, Executive Director, Minnesota Museum of American Art, 350 Robert Street N, St. Paul, MN 55101, telephone (651) 492-0309, email kmakholm@mmaa.org.

SUPPLEMENTARY INFORMATION: Notice is here given in accordance with the Native American Graves Protection and Repatriation Act (NAGPRA), 25 U.S.C. 3005, of the intent to repatriate a cultural item under the control of the Minnesota Museum of American Art, St. Paul, MN, that meets the definition of a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Sometime between 1926 and 1936, while he was superintendent of schools in Wrangell, AK, Axel Rasmussen collected a killer whale shirt. After his death in 1945, his collection of Northwest Coast objects was dispersed. The collection was reassembled by Earl Stendahl, and part of it, including the killer whale shirt, was sold to the Portland Art Museum in Portland, OR. In 1957, the Minnesota Museum of American Art, formerly the Saint Paul Gallery, purchased the killer whale shirt from the Portland Art Museum. The killer whale shirt is both a sacred object and an object of cultural patrimony.

Documentation provided by the Central Council of the Tlingit & Haida Indian Tribes, acting on behalf of itself and the Wrangell Cooperative Association—specifically the Tlingit clan Naanya.aayí—confirms the Tlingit identity of this cultural item and the clan's rightful custodianship of it. The Central Council described how the clan came to own the name and crest killer whale Sheiyksh, and demonstrated the traditional uncle-to-nephew hereditary transfer of the item going back to the first Chief Shakes. The shirt itself has Tahltan style beadwork on the collar, signifying that it is from the Stikine and Wrangell area. The Central Council also provided video evidence of Chief Shakes VII wearing the killer whale shirt in a potlach on June 3-4, 1940. The shirt has ongoing historical, traditional, or cultural importance for the Tlingit people, and under the Tlingit system of communal property ownership, it could not be alienated, appropriated, or conveyed by any individual. The killer whale shirt bonds the Tlingit people to their ancestors, symbolizing the people's relationship to the being depicted on it. Incorporating the crest design, it provides a physical form in which spiritual beings manifest their presence. In addition, the shirt is needed for current and ongoing cultural and religious practices.

Determinations Made by the Minnesota Museum of American Art

Officials of the Minnesota Museum of American Art have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Central Council of the Tlingit & Haida Indian Tribes and the Wrangell Cooperative Association.

Additional Requestors and Disposition

Lineal descendants or representatives of any Indian Tribe or Native Hawaiian organization not identified in this notice that wish to claim these cultural items should submit a written request with information in support of the claim to Kristin Makholm, Executive Director, Minnesota Museum of American Art, 350 Robert Street N, St. Paul, MN 55101, telephone (651) 492-0309, email kmakholm@mmaa.org, by July 10, 2020. After that date, if no additional claimants have come forward, transfer of control of the sacred object and object of cultural patrimony to the Central Council of the Tlingit & Haida Indian Tribes and the Wrangell Cooperative Association may proceed.

The Minnesota Museum of American Art is responsible for notifying Central Council of the Tlingit & Haida Indian Tribes and the Wrangell Cooperative Association that this notice has been published.

Dated: April 28, 2020.
Melanie O'Brien,
Manager, National NAGPRA Program.

[FR Doc. 2020-12547 Filed 6-9-20; 8:45 am]

BILLING CODE 4312-52-P